DEPARTMENT OF ENERGY

Federal Energy Regulatory Commission

[Project No. 4451-024]

Green Mountain Power Corporation, City of Somersworth, New Hampshire; Notice of Intent To Prepare an Environmental Assessment

On April 30, 2020, Green Mountain Power Corporation and the City of Somersworth, New Hampshire filed an application for a subsequent license to continue operating the existing 1.28-megawatt Lower Great Falls Hydroelectric Project No. 4451 (Lower Great Falls Project or project). The project is located on the Salmon Falls River in Strafford County, New Hampshire and York County, Maine. The project does not occupy federal land.

In accordance with the Commission's regulations, on February 10, 2021, Commission staff issued a notice that the project was ready for environmental analysis (REA notice). Based on the information in the record, including comments filed on the REA notice, staff does not anticipate that licensing the project would constitute a major federal action significantly affecting the quality of the human environment. Therefore, staff intends to prepare an Environmental Assessment (EA) on the application to license the Lower Great Falls Project.

The EA will be issued and circulated for review by all interested parties. All comments filed on the EA will be analyzed by staff and considered in the Commission's final licensing decision.

The application will be processed according to the following schedule. Revisions to the schedule may be made as appropriate.

Milestone | Target date
Commission issues EA | August 2021. ¹
Comments on EA | September 2021.

Any questions regarding this notice may be directed to Amanda Gill at (202) 502-6773 or amanda.gill@ferc.gov.

¹ The Council on Environmental Quality's (CEQ) regulations under 40 CFR 1501.10(b)(1) require that EAs be completed within 1 year of the federal action agency's decision to prepare an EA. This notice establishes the Commission's intent to prepare an EA for the Lower Great Falls Project. Therefore, in accordance with CEQ's regulations, the EA must be issued within 1 year of the issuance date of this notice.

Dated: April 22, 2021.
Kimberly D. Bose,
Secretary.

[FR Doc. 2021-08830 Filed 4-27-21; 8:45 am]

BILLING CODE 6717-01-P